DEPARTMENT OF ENERGY

Federal Energy Regulatory Commission

[Project No. 2336-094]

Georgia Power Company; Notice of Intent to Prepare an Environmental Assessment

On January 3, 2022, Georgia Power filed an application for a new, major license for the 18-megawatt Lloyd Shoals Hydroelectric Project (Lloyd Shoals Project; FERC No. 2336). The Lloyd Shoals Project is located on the Ocmulgee River in Butts, Henry, Jasper, and Newton Counties, Georgia. The project does not occupy federal lands.

In accordance with the Commission's regulations, on May 26, 2022, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the Lloyd Shoals Project.

The EA will be issued and circulated for review by all interested parties. All comments filed on the EA will be analyzed by Commission staff and considered in the Commission's final licensing decision.

The application will be processed according to the following schedule. Revisions to the schedule may be made as appropriate.

Milestone | Target date
Commission issues EA | January 2023 ¹.
Comments on EA | February 2023.

Any questions regarding this notice may be directed to Navreet Deo at (202) 502-6304, or navreet.deo@ferc.gov.

¹ The Council on Environmental Quality's (CEQ) regulations under 40 CFR 1501.10(b)(1) require that EAs be completed within 1 year of the federal action agency's decision to prepare an EA. This notice establishes the Commission's intent to prepare an EA for the Lloyd Shoals Project. Therefore, in accordance with CEQ's regulations, the EA must be issued within 1 year of the issuance date of this notice.

Dated: August 8, 2022.
Kimberly D. Bose,
Secretary.

[FR Doc. 2022-17366 Filed 8-11-22; 8:45 am]

BILLING CODE 6717-01-P